DEPARTMENT OF ENERGY

Federal Energy Regulatory Commission

[Project No. 8657-064]

Virginia Hydrogeneration and Historical Society's, L.C.; Notice of Termination of License by Implied Surrender and Soliciting Comments, Protests, and Motions To Intervene

Take notice that the following hydroelectric proceeding has been initiated by the Commission:

a. Type of Proceeding: Termination of license by implied surrender.

b. Project No.: 8657-064.

c. Date Initiated: February 8, 2013.

d. Licensee: Virginia Hydrogeneration and Historical Society's, L.C.

e. Name and Location of Project: The Harvell Hydroelectric Project is located on Appomattox River in Dinwiddie and Chesterfield counties, Virginia.

f. Filed Pursuant to: 18 CFR 6.4.

g. Licensee Contact Information: C.D.L. Perkins c/o Bryan Brothers; 1802 Bayberry Court, Suite 301; Richmond, VA 23226.

h. FERC Contact: Krista Sakallaris (202) 502-6302 or Krista.Sakallaris@ferc.gov.

i. Deadline for filing comments, protests, and motions to intervene is 30 days from the issuance date of this notice. Please file your submittal electronically via the Internet (eFiling) in lieu of paper. Please refer to the instructions on the Commission's Web site under http://www.ferc.gov/docs-filing/efiling.asp and filing instructions in the Commission's Regulations at 18 CFR section 385.2001(a)(1)(iii).¹ To assist you with eFilings you should refer to the submission guidelines document at http://www.ferc.gov/help/submission-guide/user-guide.pdf. In addition, certain filing requirements have statutory or regulatory formatting and other instructions. You should refer to a list of these “qualified documents” at http://www.ferc.gov/docs-filing/efiling/filing.pdf. You must include your name and contact information at the end of your comments. Please include the project number (P-8657-064) on any documents or motions filed. The Commission strongly encourages electronic filings; otherwise, you should submit an original and seven copies of its submittal to the following address: The Secretary, Federal Energy Regulatory Commission, Mail Code: DHAC, PJ-12, 888 First Street NE., Washington, DC 20426

¹ http://www.ferc.gov/legal/fed-sta.asp Select the link for Code of Federal Regulations and navigate to § 385.2001.

j. Description of Existing Facilities: The inoperative project consists of the following existing facilities: (a) A 400-foot-long concrete dam, varying in height from 7 feet to 9 feet; (b) a reservoir with a surface area of 7 acres and a storage capacity of 49 acre-feet at powerpool elevation of 12.63 feet m.s.l.; (c) a powerhouse, located at the dam, containing one generating unit rated at 150 kW; (d) a 170-foot-long canal to the powerhouse located east of the dam; (e) a powerhouse, located east of the dam, containing two generating units rated at 300 kW each; (f) a tailrace at the powerhouse east of the dam; (g) a transmission system which includes the 2.3-kV generator leads, the 270-foot-long, 2.3-kV transmission line from the powerhouse at the dam, and the 2.3-kV leads and the 2.3-kV bus at the powerhouse east of the dam, the transformer, and the 130-foot-long, 13.2-kV transmission line; and (h) appurtenant facilities.

k. Description of Proceeding: The licensee is in violation of Standard Article 16 of its license, which was granted on December 1, 1987 (41 FERC ¶ 62,193). The Commission's regulations, 18 CFR 6.4, provides, among other things, that the Commission may terminate a project by implied surrender if the licensee abandons or discontinues good faith operation of the project for a period of three years. The project stopped operating prior to an August 2006 safety inspection.

The most recent correspondence received from this licensee, was a Joint Offer of Settlement, dated July 22, 2005. The correspondence stated that the licensee had disconnected all electrical generating equipment from the power grid and made reasonable efforts to secure the site. The Commission did not act on the filing due to the inability to resolve issues associated with terminating the license. Since then, Commission staff inspected the project in August 2006 and again in September 2009. A project representative was not present during the inspections, and the project was locked and appeared abandoned.

l. This notice is available for review and reproduction at the Commission in the Public Reference Room, Room 2A, 888 First Street NE., Washington, DC 20426. The filing may also be viewed on the Commission's Web site at http://www.ferc.gov/docs-filing/elibrary.asp. Enter the Docket number (P-8657-064) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

m. Individuals desiring to be included on the Commission's mailing list should so indicate by writing to the Secretary of the Commission.

n. Comments, Protests, or Motions To Intervene—Anyone may submit comments, a protest, or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular proceeding.

o. Filing and Service of Responsive Documents—Any filing must (1) bear in all capital letters the title “COMMENTS”, “PROTEST”, or “MOTION TO INTERVENE,” as applicable; (2) set forth in the heading the project number of the proceeding to which the filing responds; (3) furnish the name, address, and telephone number of the person commenting, protesting or intervening; and (4) otherwise comply with the requirements of 18 CFR 385.2001 through 385.2005. All comments, protests or motions to intervene must set forth their evidentiary basis and otherwise comply with the requirements of 18 CFR 4.34(b). All comments, protests, or motions to intervene should relate to project works which are the subject of the termination of license. A copy of any protest or motion to intervene must be served upon each representative of the Licensee specified in item g above. If an intervener files comments or documents with the Commission relating to the merits of an issue that may affect the responsibilities of a particular resource agency, they must also serve a copy of the document on that resource agency. A copy of all other filings in reference to this notice must be accompanied by proof of service on all persons listed in the service list prepared by the Commission in this proceeding, in accordance with 18 CFR 4.34(b) and 385.2010.

p. Agency Comments—Federal, state, and local agencies are invited to file comments on the described proceeding. If any agency does not file comments within the time specified for filing comments, it will be presumed to have no comments.

Dated: February 8, 2013.
Kimberly D. Bose,
Secretary.

[FR Doc. 2013-03497 Filed 2-14-13; 8:45 am]

BILLING CODE 6717-01-P